DEPARTMENT OF TRANSPORTATION

Surface Transportation Board

[Docket No. FD 35978]

R. J. Corman Railroad Company/Carolina Lines, LLC—Acquisition and Operation Exemption—The Baltimore and Annapolis Railroad Company d/b/a Carolina Southern Railroad Company

R. J. Corman Railroad Company/Carolina Lines, LLC (RJCS) has filed a verified notice of exemption ¹ under 49 CFR 1150.41 to acquire from The Baltimore and Annapolis Railroad Company d/b/a Carolina Southern Railroad Company (CALA) and to operate one mile of rail line between milepost AC 290.0 and milepost AC 289.0, at or near Whiteville, N.C., pursuant to a mediation agreement reached between RJCS and CALA on June 19, 2015.²

¹ The notice was originally filed on November 25, 2015, but was supplemented on December 3, 2015. Therefore, December 3, 2015, will be the official filing date and the basis for all subsequent dates.

² RJCS was authorized previously to operate this one-mile line as incidental, local trackage rights, in addition to being authorized to acquire and operate two interconnected rail lines totaling approximately 74.98 miles between specified points in North Carolina and South Carolina. R. J. Corman R.R—Acquis. & Operation Exemption—The Baltimore & Annapolis R.R., FD 35897 (STB served Jan. 28, 2015), as corrected on November 27, 2015. R. J. Corman Railroad Group, LLC, and R. J. Corman Railroad Company, LLC, were authorized to continue in control of RJCS upon RJCS's becoming a Class III rail carrier. R. J. Corman R.R. Grp.—Continuance in Control Exemption—R. J. Corman R.R., FD 35898 (STB served Jan. 28, 2015).

RJCS certifies that the proposed transaction does not involve a provision or agreement that may limit future interchanges of traffic with a third-party connecting carrier.

RJCS also certifies that its projected revenues upon consummation of the proposed transaction will not result in the creation of a Class I or Class II rail carrier and states that its projected annual revenues will not exceed $5 million.

This transaction may be consummated on January 2, 2016, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than December 24, 2015 (at least seven days before the exemption becomes effective).

An original and 10 copies of all pleadings, referring to Docket No. FD 35978, must be filed with the Surface Transportation Board, 395 E Street SW., Washington, DC 20423-0001. In addition, a copy of each pleading must be served on Jeremy J. Sylvester, Moynahan, Irvin & Mooney, PSC, 110 North Main Street, Nicholasville, KY 40356.

Board decisions and notices are available on our Web site at “WWW.STB.DOT.GOV.”

Decided: December 15, 2015.
By the Board, Rachel D. Campbell, Director, Office of Proceedings.
Kenyatta Clay,
Clearance Clerk.

[FR Doc. 2015-31865 Filed 12-17-15; 8:45 am]

BILLING CODE 4915-01-P